DEPARTMENT OF VETERANS AFFAIRS

[OMB Control No. 2900-0159]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before December 10, 2001.

FOR FURTHER INFORMATION OR A COPY OF THE SUBMISSION CONTACT: Denise McLamb, Information Management Service (045A4), Department of Veterans Affairs, 810 Vermont Avenue, NW, Washington, DC 20420, (202) 273-8030, FAX (202) 273-5981 or e-mail: denise.mclamb@mail.va.gov. Please refer to “OMB Control No. 2900-0159.”

SUPPLEMENTARY INFORMATION: Title: Application for Payment of Matured Endowment, VA Form 29-5767.

OMB Control Number: 2900-0159.

Type of Review: Extension of a currently approved collection.

Abstract: The form is used to notify the insured that his/her endowment policy has matured and to solicit the disposition of the proceeds of the policy. The information collected is required by law and is used by VA to process the insured's request.

An agency may not conduct or sponsor, and a person is not required to respond to a collection of information unless it displays a currently valid OMB control number. The Federal Register Notice with a 60-day comment period soliciting comments on this collection of information was published on August 24, 2001, at page 44668.

Affected Public: Individuals or households.

Estimated Annual Burden: 2,867 hours.

Estimated Average Burden Per Respondent: 20 minutes.

Frequency of Response: On occasion.

Estimated Number of Respondents: 8,600.

Send comments and recommendations concerning any aspect of the information collection to VA's OMB Desk Officer, OMB Human Resources and Housing Branch, New Executive Office Building, Room 10235, Washington, DC 20503 (202) 395-7316. Please refer to “OMB Control No. 2900-0159” in any correspondence.

Dated: October 24, 2001.
By direction of the Secretary.
Donald L. Neilson,
Director, Information Management Service.

[FR Doc. 01-28045 Filed 11-7-01; 8:45 am]

BILLING CODE 8320-01-P